DEPARTMENT OF ENERGY

Federal Energy Regulatory Commission

[Docket No. RP96-320-030]

Koch Gateway Pipeline Company; Notice of Negotiated Rate Filing

April 13, 2000.

Take notice that on April 11, 2000, Koch Gateway Pipeline Company (Koch) tendered for filing the following contracts reflecting negotiated rate transactions:

Special Negotiated Rate Between Koch and KET Energy Trading, Contracts Nos. 27619 and 27621

Koch states that it requests a waiver of Section 154.207 of the Commission's regulations to allow the filing to be effective on October 1, 1999.

Koch states that it has served copies of this filing upon each of all parties on the official service list created by the Secretary in this proceeding.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance.

David P. Boergers,
Secretary.

[FR Doc. 00-9766 Filed 4-18-00; 8:45 am]

BILLING CODE 6717-01-M